FEDERAL MARITIME COMMISSION

Ocean Transportation Intermediary License Applicants

Notice is hereby given that the following applicants have filed with the Federal Maritime Commission an application for a license as a Non-Vessel-Operating Common Carrier (NVO) and/or Ocean Freight Forwarder (OFF)—Ocean Transportation Intermediary (OTI) pursuant to section 19 of the Shipping Act of 1984 as amended (46 U.S.C. Chapter 409 and 46 CFR 515). Notice is also hereby given of the filing of applications to amend an existing OTI license or the Qualifying Individual (QI) for a license.

Interested persons may contact the Office of Transportation Intermediaries, Federal Maritime Commission, Washington, DC 20573, by telephone at (202) 523-5843 or by e-mail at OTI@fmc.gov.

Arkman Logistics Inc. (NVO), 1001 Fargo Avenue, Elk Grove Village, IL 60007. Officer: Kevin Ho Yoel Cho, President/Secretary/Treasurer (Qualifying Individual). Application Type: New NVO License

Atlantic Global LLC (NVO & OFF), 1250 Newark Turnpike, Kearny, NJ 07032. Officer: Jeff Lelchuk, Managing Member (Qualifying Individual). Application Type: New NVO & OFF License.

BCargo Logistics, S.A. de C.V. (NVO), Av. Revolucion #725-A, Col. Jardin Espanol Monterrey, Nuevo Leon, Mexico 64820. Officers: Bernardo Villarreal Garza, Shareholder/Sole Administrator (Qualifying Individual), Gerardo Villarreal Garza, Shareholder/Representative Agent. Application Type: New NVO License.

Cargo Management & Logistics Corp. (NVO & OFF), 13445 SW 290th St, Homestead, FL 33033. Officers: Cristian Afanador, Vice President (Qualifying Individual) Vivian Cobo-Afanador, President/Secretary/Treasurer. Application Type: New NVO & OFF License.

Carico USA, LLC (NVO & OFF), 4801 Woodway Drive, Houston, TX 77056. Officers: Francisco Gonzalez, Managing Member (Qualifying Individual), Raul Ruben Amprimo, Member. Application Type: New NVO & OFF License.

Century Distribution Systems, Incorporated dba Century Express (NVO & OFF), 1485-E Route 1, South, Suite 100, Iselin, NJ 08830. Officers: Mark Thomas Gorman, President (Century Division) (Qualifying Individual), Iain C. Aitchison, CEO/President/Director. Application Type: Trade Name Change & Add NVO Service.

Comis Global Logistics, Inc. (NVO), 18005 Savarona Way Carson, CA 90746. Officer: Frank Noah, President/Secretary/CFO (Qualifying Individual), Application Type: New NVO License.

Dedicated Global Carriers, LLC (NVO & OFF), 4627 Town N Country Blvd., Tampa, FL 33615. Officers: Joyce E. Behringer, Manager/Secretary (Qualifying Individual), Jonathan Jones, Manager/President. Application Type: QI Change.

Geoffrey Au dba ABC Logistics Company (NVO), 2250 Gellert Blvd., South San Francisco, CA 94080. Officer: Geoffrey Au, Owner (Qualifying Individual), Application Type: New NVO License.

Icon North America, Inc. (NVO & OFF), 6704 SW 114 PL, Suite F, Miami, FL 33173. Officers: Vital Fernando Cordova, Secretary/Director (Qualifying Individual), Trisha L. Gonzalez, President/Director. Application Type: New NVO & OFF License.

Intercargo USA Corp. (NVO), 12555 Orange Dr, Davie, FL 33330. Officers: Gerben Zwaga, President (Qualifying Individual), Honorino Landa, Director. Application Type: QI Change.

Nunez Shipping Inc. (NVO), 1388 NW 29th St., Miami, FL 33142. Officers: Osvaldo Nunez, President (Qualifying Individual), Brunilda Ramirez, Corporate Secretary. Application Type: New NVO License.

Reto Shipping Corp. (NVO & OFF), 8364 NW 66 St., Miami, FL 33166. Officers: Loraine Noboa-Gonzalez, Vice President/Secretary (Qualifying Individual), Angel R. Gonzalez, President. Application Type: Add NVO Service. Transglad, Inc. (NVO & OFF), 525 Neptune Avenue, Brooklyn, NY 11224. Officers: Svetlana Kogut, Treasurer/Secretary (Qualifying Individual), Robert Kogut, President. Application Type: QI Change.

U.S. Global Logistics Corp. (NVO), 2867 Cropsey Ave., Brooklyn, NY 11214.Officer: Kehong Zheng, President/Secretary (Qualifying Individual). Application Type: New NVO License.

WTG Logistics, Inc. dba WTG International (NVO & OFF), 140 Epping Road, Exeter, NH 03833. Officers: William Walsh, President/CEO (Qualifying Individual), James McKenna, Vice President/CFO. Application Type: QI Change.

Yusen Air & Sea Services (U.S.A.) Incorporated (NVO & OFF), 377 Oak Street, Garden City, NJ 11530. Officers: Karen Yvonne Quintana, Vice President (Qualifying Individual), Kazuo Ishizuka, President/CEO, Application Type: Name Change & QI Change.

Dated: March 11, 2011.
Rachel E. Dickon,
Assistant Secretary.

[FR Doc. 2011-6134 Filed 3-15-11; 8:45 am]

BILLING CODE 6730-01-P